DEPARTMENT OF HEALTH AND HUMAN SERVICES

Health Resources and Services Administration

Agency Information Collection Activities: Submission to OMB for Review and Approval; Public Comment Request; Ryan White HIV/AIDS Program Client-Level Data Reporting System, OMB No. 0906-0039—Extension

AGENCY: Health Resources and Services Administration (HRSA), Department of Health and Human Services.

ACTION: Notice.

SUMMARY: In compliance with of the Paperwork Reduction Act of 1995, HRSA is submitting an Information Collection Request (ICR) to the Office of Management and Budget (OMB) for review and approval. Comments submitted during the first public review of this ICR will be provided to OMB. OMB will accept further comments from the public during the review and approval period. OMB may act on HRSA's ICR only after the 30-day comment period for this Notice has closed.

DATES: Comments on this ICR should be received no later than December 16, 2021.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the acting HRSA Information Collection Clearance Officer at paperwork@hrsa.gov or call (301) 443-9094.

SUPPLEMENTARY INFORMATION: Information Collection Request Title: Ryan White HIV/AIDS Program Client-Level Data Reporting System, OMB No. 0906-0039—Extension.

Abstract: The Ryan White HIV/AIDS Program (RWHAP), authorized under Title XXVI of the Public Health Service Act, is administered by the HIV/AIDS Bureau within HRSA. HRSA awards funding to recipients in areas of the greatest need to respond effectively to the changing HIV epidemic, with an emphasis on providing life-saving and life-extending medical care, treatment and support services for people living with HIV in the United States.

The RWHAP reporting requirements include the annual submission of client-level data in the Ryan White HIV/AIDS Program Services Report (RSR). The RSR is designed to collect information from grant recipients and their subcontracted service providers, funded under Parts A, B, C, and D of the RWHAP legislation. HRSA is requesting an extension of the current RSR with no changes.

A 60-day notice published in the Federal Register, 86 FR 44376 (August 12, 2021). There were were no public comments.

Need and Proposed Use of the Information: The RWHAP legislation specifies HRSA's responsibilities in administering grant funds, allocating funding, assessing HIV care outcomes (e.g., viral suppression), and serving particular populations. The RSR collects data on the characteristics of RWHAP-funded recipients, their contracted service providers, and the patients or clients served. The RSR system consists of two primary components, the Recipient Report and the Provider Report, and a data file containing the client-level data elements. Data are submitted annually. The RWHAP legislation specifies the importance of recipient accountability and linking performance to budget. The RSR is used to ensure recipient compliance with the law, including evaluating the effectiveness of programs, monitoring recipient and provider performance, and informing annual reports to Congress. Information collected through the RSR is critical for HRSA, state and local grant recipients, and individual providers to assess the status of existing HIV-related service delivery systems, assess trends in service utilization, assess the impact of data reporting and identify areas of greatest need.

Likely Respondents: RWHAP grant recipients, as well as their subcontracted service providers, funded under RWHAP Parts A, B, C, and D.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Recipient Report | 595 | 1 | 595 | 11 | 6,545
Provider Report | 2,063 | 1 | 2,063 | 13 | 26,819
Client Report | 1,532 | 1 | 1,532 | 113 | 173,116
Total | 4,190 |  | 4,190 |  | 206,480

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-24922 Filed 11-15-21; 8:45 am]

BILLING CODE 4165-15-P